DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; Small Business: SBIR/STTR Commercialization Readiness Pilot (CRP) Program.

Date: November 12-13, 2025.

Time: 10:00 a.m. to 6:00 p.m.

Agenda: To review and evaluate grant applications.

Address: National Institutes of Health, Rockledge II, 6701 Rockledge Drive, Bethesda, MD 20892.

Meeting Format: Virtual Meeting.

Contact Person: Marie-Jose Belanger, Ph.D., Scientific Review Officer, Center for Scientific Review, National Institutes of Health, 6701 Rockledge Drive, Rm. 6188 MSC 7804, Bethesda, MD 20892, 301-435-1267, belangerm@csr.nih.gov.

Name of Committee: Center for Scientific Review Special Emphasis Panel; Resource Program Grants in Bioinformatics, Biomedical Imaging and Bioengineering (P41).

Date: November 12-13, 2025.

Time: 10:00 a.m. to 6:00 p.m.

Agenda: To review and evaluate grant applications.

Address: National Institutes of Health, Rockledge II, 6701 Rockledge Drive, Bethesda, MD 20892.

Meeting Format: Virtual Meeting.

Contact Person: Susan Wohler Sunnarborg, BS, Ph.D., MS, Scientific Review Officer, Office of Scientific Review/DERA, National, Heart, Lung, and Blood Institute, 6705 Rockledge Drive, Room 208-Z, Bethesda, MD 20892, 301-827-7987, susan.sunnarborg@nih.gov.

Name of Committee: Center for Scientific Review Special Emphasis Panel; RFA-AI-25-006: Molecular Mechanisms of Combination Adjuvants.

Date: November 13, 2025.

Time: 9:30 a.m. to 6:00 p.m.

Agenda: To review and evaluate grant applications.

Address: National Institutes of Health, Rockledge II, 6701 Rockledge Drive, Bethesda, MD 20892.

Meeting Format: Virtual Meeting.

Contact Person: Jennifer Hartt Meyers, Ph.D., Scientific Review Officer, Scientific Review Program, DEA/NIAID/NIH/DHHS, 5601 Fishers Lane, MSC-9823, Rockville, MD 20852, 301-761-6602, jennifer.meyers@nih.gov.

Name of Committee: Infectious Diseases and Immunology A Integrated Review Group; Molecular and Structural Immunology Study Section.

Date: November 13-14, 2025.

Time: 9:30 a.m. to 6:00 p.m.

Agenda: To review and evaluate grant applications.

Address: National Institutes of Health, Rockledge II, 6701 Rockledge Drive, Bethesda, MD 20892.

Meeting Format: Virtual Meeting.

Contact Person: Velasco Cimica, Ph.D., Scientific Review Officer, Center for Scientific Review, National Institutes of Health, 6701 Rockledge Drive, Bethesda, MD 20892, (301) 594-1760, velasco.cimica@nih.gov.

Name of Committee: Center for Scientific Review Special Emphasis Panel; PAR-22-180: Maximizing Investigators' Research Award.

Date: November 13-14, 2025.

Time: 10:00 a.m. to 7:00 p.m.

Agenda: To review and evaluate grant applications.

Address: National Institutes of Health, Rockledge II, 6701 Rockledge Drive, Bethesda, MD 20892.

Meeting Format: Virtual Meeting.

Contact Person: Eduardo Emilio Chufan, Ph.D., Scientific Review Officer, Research Technology & Contract Review Branch, Division of Extramural Activities, National Cancer Institute, NIH, 9609 Medical Center Drive, Room 7W254, Rockville, MD 20850, (240) 276-7975, chufanee@mail.nih.gov.

Name of Committee: Center for Scientific Review Special Emphasis Panel; PAR-22-180: Maximizing Investigators' Research Award.

Date: November 13-14, 2025.

Time: 10:00 a.m. to 7:00 p.m.

Agenda: To review and evaluate grant applications.

Address: National Institutes of Health, Rockledge II, 6701 Rockledge Drive, Bethesda, MD 20892.

Meeting Format: Virtual Meeting.

Contact Person: Laureen Elizabeth Connell, Ph.D., Scientific Review Officer, Center for Scientific Review, National Institutes of Health, 6701 Rockledge Dr., Room 710K, Bethesda, MD 20892, (301) 480-3629, connelle@csr.nih.gov.

Name of Committee: Center for Scientific Review Special Emphasis Panel; Pain Mechanisms.

Date: November 13-14, 2025.

Time: 10:00 a.m. to 6:30 p.m.

Agenda: To review and evaluate grant applications.

Address: National Institutes of Health, Rockledge II, 6701 Rockledge Drive, Bethesda, MD 20892.

Meeting Format: Virtual Meeting.

Contact Person: Nesar Uddin Akanda, Ph.D., MD, Scientific Review Officer, SRB, Scientific Review Branch, National Institute on Aging, 5601 Fishers Lane, Suite 8B, Rockville, MD 20892, (301) 594-8984, nesar.akanda@nih.gov.

Name of Committee: Center for Scientific Review Special Emphasis Panel; Fellowships: Endocrine and Metabolic Systems Review.

Date: November 13, 2025.

Time: 10:00 a.m. to 6:00 p.m.

Agenda: To review and evaluate grant applications.

Address: National Institutes of Health, Rockledge II, 6701 Rockledge Drive, Bethesda, MD 20892.

Meeting Format: Virtual Meeting.

Contact Person: Elena Sanovich, Ph.D., Scientific Review Officer, Scientific Review Branch, National Institutes of Diabetes & Digestive, National Institutes of Health, 6707 Democracy Blvd., Room 7351, Bethesda, MD 20892, (301) 594-8886, sanoviche@mail.nih.gov.

Name of Committee: Center for Scientific Review Special Emphasis Panel; Fellowships: Epidemiology and Population Sciences.

Date: November 13-14, 2025.

Time: 10:00 a.m. to 1:00 p.m.

Agenda: To review and evaluate grant applications.

Address: National Institutes of Health, Rockledge II, 6701 Rockledge Drive, Bethesda, MD 20892.

Meeting Format: Virtual Meeting.

Contact Person: Rebecca I. Tinker, Ph.D., Scientific Review Officer, Center for Scientific Review, National Institutes of Health, 6701 Rockledge Drive, Bethesda, MD 20817, (301) 435-0637, tinkerri@csr.nih.gov.

Name of Committee: Infectious Diseases and Immunology B Integrated Review Group; HIV Immunopathogenesis and Vaccine Development Study Section.

Date: November 13-14, 2025.

Time: 10:00 a.m. to 7:00 p.m.

Agenda: To review and evaluate grant applications.

Address: National Institutes of Health, Rockledge II, 6701 Rockledge Drive, Bethesda, MD 20892.

Meeting Format: Virtual Meeting.

Contact Person: Philip Owens, Ph.D., Scientific Review Officer, Center for Scientific Review, National Institutes of Health, 6701 Rockledge Dr., Bethesda, MD 20892, (301) 594-7394, owensp2@csr.nih.gov.

Name of Committee: Center for Scientific Review Special Emphasis Panel; Program Project: NIDDK Nutrition Obesity Research Centers.

Date: November 13-14, 2025.

Time: 10:00 a.m. to 5:00 p.m.

Agenda: To review and evaluate grant applications.

Address: National Institutes of Health, Rockledge II, 6701 Rockledge Drive, Bethesda, MD 20892.

Meeting Format: Virtual Meeting.

Contact Person: Nijaguna Prasad, Ph.D., Scientific Review Officer, Center for Scientific Review, National Institutes of Health, 6701 Rockledge Drive, Bethesda, MD 20892, (301) 594-5197, prasadnb@mail.nih.gov.

Name of Committee: Center for Scientific Review Special Emphasis Panel; AREA/REAP: Cardiovascular and Respiratory Sciences.

Date: November 13, 2025.

Time: 12:30 p.m. to 4:00 p.m.

Agenda: To review and evaluate grant applications.

Address: National Institutes of Health, Rockledge II, 6701 Rockledge Drive, Bethesda, MD 20892.

Meeting Format: Virtual Meeting.

Contact Person: Rupali Das, Ph.D., Scientific Review Officer, Center for Scientific Review, National Institutes of Health, 6701 Rockledge Drive, Bethesda, MD 20892, (301) 594-0023, rupali.das@nih.gov.

Name of Committee: Center for Scientific Review Special Emphasis Panel; Topics in Biobehavioral Processes.

Date: December 1-2, 2025.

Time: 9:30 a.m. to 6:00 p.m.

Agenda: To review and evaluate grant applications.

Address: National Institutes of Health, Rockledge II, 6701 Rockledge Drive, Bethesda, MD 20892.

Meeting Format: Virtual Meeting.

Contact Person: Devon Rene Oskvig, Ph.D., Scientific Review Officer, Division of Extramural Research, National Institute on Drug Abuse, 11601 Landsdown Street, Suite 3WF, Rockville, MD 20852, (301) 402-6965, devon.oskvig@nih.gov.

Name of Committee: Center for Scientific Review Special Emphasis Panel; Small Business: Therapeutic Development for CNS Injuries, Neurovascular, and Neurological disorders.

Date: December 8-9, 2025.

Time: 9:30 a.m. to 6:00 p.m.

Agenda: To review and evaluate grant applications.

Address: National Institutes of Health, Rockledge II, 6701 Rockledge Drive, Bethesda, MD 20892.

Meeting Format: Virtual Meeting.

Contact Person: Gagan Deep Bajaj, Ph.D., Scientific Review Officer, National Institute on Drug Abuse, NIH, Scientific Review Branch, 11601 Landsdown Street, 3WF Room 09A01, Bethesda, MD 20892, (301) 402-6965, gagan.bajaj@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: September 22, 2025.
Sterlyn H. Gibson,
Program Specialist, Office of Federal Advisory Committee Policy.

[FR Doc. 2025-18517 Filed 9-23-25; 8:45 am]

BILLING CODE 4140-01-P